POSTAL SERVICE BOARD OF GOVERNORS

Sunshine Act Meeting

Times and Dates: 1 p.m., Monday, March 3, 2003; 8:30 a.m., Tuesday, March 4, 2003.

Place: Washington, DC, at U.S. Postal Service Headquarters, 475 L'Enfant Plaza, SW., in the Benjamin Franklin Room.

Status: March 3—1 p.m. (Closed); March 4—8:30 a.m. (Open).

Matters to be Considered:

Monday, March 3—1 p.m. (Closed)

1. Financial Performance.

2. Postal Rate Commission Filing for Customized Marketmail.

3. Rate Case Planning.

4. Strategic Planning.

5. Personnel Matters and Compensation Issues.

Tuesday, March 4—8:30 a.m. (Open)

1. Minutes of the Previous Meeting, February 3-4, 2003.

2. Remarks of the Postmaster General and CEO.

3. Consumer Protection.

4. Update on usps.com Website.

5. Price of Domestic Violence Semipostal Stamp.

6. Overview of 2003 Stamp Program.

7. Tentative Agenda for the March 31-April 1, 2003, meeting in Washington, DC.

FOR FURTHER INFORMATION CONTACT: William T. Johnstone, Secretary of the Board, U.S. Postal Service, 475 L'Enfant Plaza, SW., Washington, DC 20260-1000. Telephone (202) 268-4800.

William T. Johnstone,
Secretary.

[FR Doc. 03-4692 Filed 2-24-03; 3:16 pm]

BILLING CODE 7710-12-M